DEPARTMENT OF JUSTICE

Notice of Lodging of a Consent Decree Under the Clean Water Act

Notice is hereby given that on August 10, 2011 a proposed Consent Decree in United States and the State of West Virginia v. City of Elkins, Civil Action No. 2:11cv61, was lodged with the United States District Court for the Northern District of West Virginia. In this action the United States and the State seeks civil penalties and injunctive relief for violations of the Clean Water Act, 33 U.S.C. 1251 et seq., in connection with the City of Elkins' operation of its municipal wastewater and sewer system.

Under the proposed Consent Decree, Elkins is required to: (1) Implement injunctive measures through a long term control plan (“LTCP”) to eliminate dry weather overflows (“DWOs”) and reduce combined sewer overflows (“CSOs”) by March 2023 by completing sewer separation projects and upgrades at an approximate cost of $4.2 million; (2) pay the United States a civil penalty of $32,400; (3) pay the State a civil penalty of $32,400 and (3) establish and operate a yard waste pick-up and recycling program for Elkins' residents as a Supplemental Environmental Project (“SEP”).

The Department of Justice will receive for a period of thirty (30) days from the date of this publication comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States and West Virginia Department of Environmental Protection v. City of Elkins, D.J. Ref. 90-5-1-1-09043. The proposed Consent Decree may be examined at the Office of the United States Attorney, Northern District of West Virginia, Elkins Branch, Federal Building, 300 Third Street, Suite 300, Elkins, WV and at the U.S. Environmental Protection Agency, Region 3, 1650 Arch Street, Philadelphia, PA 19103.

During the public comment period, the proposed Consent Decree may also be examined on the following Department of Justice Web site, to http://www.usdoj.gov/enrd/Consent_Decrees.html. A copy of the proposed consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $17.25 (25 cents per page reproduction cost) payable to the U.S. Treasury or, if by email or fax, forward a check in that amount to the Consent Decree Library at the stated address.

Robert Brook,
Assistant Section Chief, Environmental Enforcement Section, Environment and Natural Resources Division.

[FR Doc. 2011-20755 Filed 8-15-11; 8:45 am]

BILLING CODE 4410-15-P